DEPARTMENT OF LABOR

Employment and Training Administration

Comment Request for Information Collection for Claims and Payment Activities, Extension Without Revisions.

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data ETA uses to record data concerning claims and payment activities in the Unemployment Insurance (UI) system.

DATES: Written comments must be submitted to the office listed in the ADDRESSES section below on or before August 21, 2012.

ADDRESSES: Submit written comments to Scott Gibbons, Office of Unemployment Insurance, Employment and Training Administration, U.S. Department of Labor, 200 Constitution Avenue NW., Washington, DC 20210. Telephone number: 202-693-3008 (this is not a toll-free number). Individuals with hearing or speech impairments may access the telephone number above via TTY by calling the toll-free Federal Information Relay Service at 1-877-889-5627 (TTY/TDD). Email: gibbons.scott@dol.gov. A copy of the proposed information collection request (ICR) can be obtained by contacting Mr. Gibbons.

SUPPLEMENTARY INFORMATION:

I. Background

The ETA 5159, Claimant and Payment Activities report, contains information on claims activities including the number of initial claims, first payments, weeks claimed, weeks compensated, benefit payments, and final payments. These data are used in budgetary and administrative planning, program evaluation, actuarial and program research, and reports to Congress and the public.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Extension without changes.

Title: Claims and Payment Activities.

OMB Number: 1205-0010.

Affected Public: State Workforce Agencies.

Form(s): ETA 5159.

Data collection activity | Number of respondents | Frequency | Total responses | Average time per response (hours) | Burden hours
Reporting of Regular 5159 | 53 | Monthly | 636 | 2 | 1,272
Reporting of EB 5159 | 53 | Monthly | 636 | 2 | 1,272
Reporting of STC 5159 | 53 | Monthly | 636 | 7 | 4,452
Reporting of TEUC 5159 | 53 | Monthly | 636 | 2 | 1,272
Reporting of EUC08 5159 | 53 | Monthly | 636 | 2 | 1,272
Total |  |  | 3,180 |  | 9,540

Total Annual Burden Cost for Respondents: There is no burden cost.

Comments submitted in response to this comment request will be summarized and/or included in the request for OMB approval of the ICR; they will also become a matter of public record.

Dated: Signed in Washington, DC, this 15th day of June, 2012.
Jane Oates,
Assistant Secretary for Employment and Training, Labor.

[FR Doc. 2012-15214 Filed 6-21-12; 8:45 am]

BILLING CODE 4510-FW-P